Proclamation 8761 of November 30, 2011

National Impaired Driving Prevention Month, 2011

By the President of the United States of America

A Proclamation

Though we have made progress in the fight to reduce drunk driving, our Nation continues to suffer an unacceptable loss of life from traffic accidents that involve drugs, alcohol, and distracted driving. To bring an end to these heartbreaking outcomes, we must take action by promoting rigorous enforcement measures and effective substance abuse prevention programs. During National Impaired Driving Prevention Month, we recommit to preventing tragedy before it strikes by ensuring our family members and friends stay safe, sober, and drug-free on the road.

As we strive to reduce the damage drug use inflicts upon our communities, we must address the serious and growing threat drunk, drugged, and distracted driving poses to all Americans. Alcohol and drugs, both illicit and prescribed, can impair judgment, reaction time, motor skills, and memory, eroding a person’s ability to drive safely and responsibly. Distracted driving, including the use of electronic equipment behind the wheel, can also put lives at risk. To confront these issues, my Administration is working to decrease the incidence of drugged driving by 10 percent over the next 5 years as part of our 2011 National Drug Control Strategy. We are collaborating with State and local governments to bolster enforcement efforts, implement more effective legislation, and support successful, evidence-based prevention programs. These ongoing initiatives are supplemented by our Drive Sober or Get Pulled Over campaign, which aims to deter impaired driving during the holiday season.

While enforcement and legislation are critical elements of our strategy, we know that the parents, educators, and community leaders who work with young people every day are our Nation’s best advocates for responsible decisionmaking. Research suggests that younger drivers are particularly susceptible to the hazards of drugged driving. To help our families and communities build awareness about impaired driving, my Administration released a toolkit that includes information about drugged driving, discussion guides, and tip sheets for preventing driving under the influence of alcohol and drugs. These materials are available with a variety of other resources at: www.TheAntiDrug.com.

All of us have the power to effect change and work to end drunk, drugged, and distracted driving in America. In our homes and communities, we can engage our youth and discuss the consequences of drug and alcohol abuse. In our clinics and hospitals, health care providers can redouble their efforts to recognize patients with substance abuse problems and offer medical intervention. And in governing bodies across our country, State and local officials can explore new legal actions that will hold drugged drivers accountable and encourage them to seek treatment. As we come together with our loved ones this holiday season, let us renew our commitment to drive safely, act responsibly, and live drug-free.

NOW, THEREFORE, I, BARACK OBAMA, President of the United States of America, by virtue of the authority vested in me by the Constitution and the laws of the United States, do hereby proclaim December 2011 as National Impaired Driving Prevention Month. I urge all Americans to make responsible decisions and take appropriate measures to prevent impaired driving.

IN WITNESS WHEREOF, I have hereunto set my hand this thirtieth day of November, in the year of our Lord two thousand eleven, and of the Independence of the United States of America the two hundred and thirty-sixth.

[FR Doc. 2011-31416

Filed 12-5-11; 8:45 am]

Billing code 3295-F2-P